DEPARTMENT OF ENERGY

Federal Energy Regulatory Commission

[Docket No. ER97-2358-005, et al.]

Pacific Gas and Electric Company, et al.; Electric Rate and Corporate Filings

June 6, 2003.

The following filings have been made with the Commission. The filings are listed in ascending order within each docket classification.

1. Pacific Gas and Electric Company

[Docket Nos. ER97-2358-005, ER98-2351-004, ER01-839-004, ER01-66-002]

Take notice that on June 3, 2003, Pacific Gas and Electric Company (PG&E) tendered for filing refund reports under its Transmission Owner Tariff and modifications to its Wholesale Distribution Tariff in compliance with Commission Orders.

PG&E states that copies of this filing have been sent to the California Independent System Operator Corporation (CAISO),Scheduling Coordinators registered with the CAISO, the California Public Utilities Commission and all other parties to the official service lists.

Comment Date: June 24, 2003.

2. San Diego Gas & Electric Company

[Docket Nos. ER97-2364-006, ER97-4235-003, ER98-497-003, ER98-2371-003]

Take notice that on June 3, 2003, San Diego Gas & Electric(SDG&E) tendered for filing its refund report in compliance with Opinions 458 (August 5, 2002) and 458-A (November 1, 2002).

SDG&E states that copies of this filing were served upon all parties in Docket No. ER97-2364-000, including the California Public Utilities Commission, the California Independent System Operator,California Independent System Operator-registered Scheduling Coordinators, Pacific Gas and Electric Company, and Southern California Edison Company.

Comment Date: June 24, 2003.

3. Westar Generating, Inc.

[Docket No. ER01-1305-008]

Take notice that on June 4, 2003, Westar Generating, Inc.(Westar) submitted an informational filing as required by Article IV,Informational Filings, of the Settlement Agreement in Dockets No. ER01-1305-000.

Westar states that a copy of this filing was served upon the Kansas Corporation Commission.

Comment Date: June 25, 2003.

4. Southwest Power Pool, Inc.

[Docket No. ER03-472-001]

Take notice that on June 3, 2003, Southwest Power Pool, Inc. (SPP) submitted for filing an executed service agreement for Firm Point-to-Point Transmission Service with Western Resources d/b/a/ Westar Energy (Westar) and an executed service agreement for Firm Point-to-Point Transmission Service with Exelon Generation Company LLC (Exelon). SPP seeks an effective date of January 1, 2003 for these service agreements. SSP states that the service agreements supersede service agreements submitted by SPP on January 30, 2003.

SPP states that Exelon and Westar were served with a copy of this filing.

Comment Date: June 24, 2003.

5. Commonwealth Edison Company

[Docket No. ER03-630-001]

Take notice that on June 4, 2003, Commonwealth Edison Company (ComEd) submitted a filing to the Federal Energy Regulatory Commission in compliance with the May 5, 2003 Order in Docket No. ER03-630-000.

ComEd states that copies of this filing were served on Grande Prairie Energy, LLC and the Illinois Commerce Commission.

Comment Date: June 25, 2003.

6. Public Service Company of New Mexico

[Docket No. ER03-914-000]

Take notice that on June 4, 2003, Public Service Company of New Mexico (PNM) tendered for filing an Interconnection Agreement (designated as Service Agreement No. 208 under PNM Electric Tariff, Second Revised Volume No. 4) that includes the provisions for the interconnection facilities necessary to interconnect the FPL Energy New Mexico Wind, LLC (FPLE) proposed 204 MW name plate capacity wind farm generation project, in eastern New Mexico, to PNM's transmission system.

PNM states that copies of the filing have been sent to FPLE, the New Mexico Public Regulation Commission, and the New Mexico Attorney General.

Comment Date: June 25, 2003.

7. American Electric Power Service Corporation

[Docket No. ER03-915-000]

Take notice that on June 4, 2003, the American Electric Power Service Corporation (AEPSC) tendered for filing pursuant to Section 35.15 of the Commission Regulations 18 CFR 35.15, a Notice of Termination of an executed Facilities Agreement between Ohio Power Company and Jackson County Power, L.L.C. designated as Service Agreement No. 348 under American Electric Power Operating Companies' Open Access Transmission Tariff.

AEPSC requests an effective date of June 3, 2003. AEPSC states that a copy of the filing was served upon Jackson County Power, L.L.C. and the Public Utilities Commission of Ohio.

Comment Date: June 25, 2003.

8. PJM Interconnection, L.L.C.

[Docket No. ER03-916-000]

Take notice that on June 4, 2003, PJM Interconnection, L.L.C. (PJM), submitted for filing an interconnection service agreement among PJM, Waymart Wind Farm L.P., and PPL Electric Utilities Corporation. PJM requests a waiver of the Commission's 60-day notice requirement to permit a May 12, 2003 effective date for the agreement.

PJM states that copies of this filing were served upon the parties to the agreement and the state regulatory commissions within the PJM region.

Comment Date: June 25, 2003.

9. Puget Sound Energy, Inc.

[Docket No. ER03-918-000]

Take notice that on June 4, 2003, Puget Sound Energy, Inc. (Puget) tendered for filing Amendatory Agreement No. 1 to the 1997 Pacific Northwest Coordination Agreement (the 1997 PNCA). Puget states that Amendatory Agreement No. 1 amends the 1997 PNCA. A copy of the filing was served upon the parties to the 1997 PNCA.

Comment Date: June 25, 2004.

10. Puget Sound Energy, Inc.

[Docket No. ER03-919-000]

Take notice that on June 4, 2003, Puget Sound Energy, Inc. (Puget) tendered for filing Amendment No. 3 to the Exchange and Transfer Agreement between The City of Seattle, acting by and through its City Light Department (the City) and Puget.

Comment Date: June 25, 2003.

11. Puget Sound Energy, Inc.

[Docket No. ER03-920-000]

Take notice that on June 4, 2003, Puget Sound Energy, Inc. (Puget) tendered for filing Amendatory Agreement No. 6 to the 1964 Pacific Northwest Coordination Agreement (the 1964 PNCA).

Puget states that a copy of the filing was served upon the parties to the 1964 PNCA.

Comment Date: June 25, 2003.

12. Puget Sound Energy, Inc.

[Docket No.ER03-921-000]

Take notice that on June 4, 2003, Puget Sound Energy, Inc. (Puget) tendered for an unsigned Interconnection Argument Amendment between The City of Seattle, acting by and through its City Light Department (the City) and Puget. Puget states that a copy of the filing was served upon the City.

Comment Date: June 25, 2003.

13. Southaven Power, LLC

[Docket No. ER03-922-000]

Take notice that on June 4, 2003, Southaven Power, LLC (Southaven), an electric power developer organized under the laws of Delaware, petitioned the Commission for acceptance of an amendment to its market-based rate tariff, waiver of certain requirements under Subparts B and C of part 35 of the Commission's regulations, and preapproval of transactions under part 34 of the regulations. Southaven is requesting that its existing tariff be amended to permit the sale of ancillary services at market-based rates.

Comment Date: June 25, 2003.

14. Puget Sound Energy, Inc.

[Docket No. ER03-923-000]

Take notice that on June 4, 2003, Puget Sound Energy, Inc. (Puget) tendered for filing Amendatory Agreement No. 5 to the 1964 Pacific Northwest Coordination Agreement (the 1964 PNCA).

Puget states that a copy of the filing was served upon the parties to the 1964 PNCA.

Comment Date: June 25, 2003.

15. Central Hudson Enterprise Corporation

[Docket No. ER03-924-000]

Take notice that on June 4, 2003, Central Hudson Enterprise Corporation filed a Notice of Cancellation of Rate Schedule FERC No. 1 and Supplement No.1 to Rate Schedule FERC No.1, effective June 26, 1997 in Docket No. ER97-2869-000. Central Hudson requests an effective date of May 31, 2002 for the cancellation.

Comment Date: June 25, 2003.

16. West Penn Power Company

[Docket No.ER03-925-000]

Take notice that on June 4, 2003, Allegheny Energy Service Corporation on behalf of West Penn Power Company (West Penn), tendered for filing pursuant to the Federal Energy Regulatory Commission's regulations, 18 CFR 35.15, a Notice of Cancellation of West Penn Power Company, Rate Schedule FERC No.100 and Rate Schedule FERC No.101, consisting of executed Transition Service Agreements with Allegheny Electric Cooperative and the Borough of Chambersburg. West Penn requests an effective date of November 30, 2002 for the cancellations. Accordingly, West Penn requests waiver of the Commission's regulations.

West Penn states that copies of the filing have been provided to Allegheny Electric Cooperative, the Maryland Public Service Commission, the Pennsylvania Public Utility Commission, the Virginia State Corporation Commission, and the West Virginia Public Service Commission.

Comment Date: June 25, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-15320 Filed 6-18-03; 8:45 am]

BILLING CODE 6717-01-P